DEPARTMENT OF THE INTERIOR

Fish and Wildlife Service

San Joaquin River National Wildlife Refuge, Stanislaus and San Joaquin Counties, CA

AGENCY: Fish and Wildlife Service, Interior.

ACTION: Notice of availability: final comprehensive conservation plan and finding of no significant impact.

SUMMARY: The U.S. Fish and Wildlife Service (Service) announces that the San Joaquin River National Wildlife Refuge (Refuge) Final Comprehensive Conservation Plan (CCP) and Finding of No Significant Impact (FONSI) are available for distribution. The CCP, prepared pursuant to the National Wildlife Refuge System Improvement Act of 1997, and in accordance with the National Environmental Policy Act of 1969, describes how the Service will manage the Refuge for the next 15 years.

DATES: The CCP and FONSI are available now. The FONSI was signed September 29, 2006. Implementation of the CCP may begin immediately.

ADDRESSES: Copies of the CCP and FONSI may be obtained by writing to the San Joaquin River National Wildlife Refuge, P.O. Box 2176, 947-C West Pacheco Boulevard, Los Banos, California 93635. Copies of the CCP and FONSI may also be obtained by writing to the U.S. Fish and Wildlife Service, Attn: Mark Pelz, CA/NV Refuge Planning Office, 2800 Cottage Way, W-1832, Sacramento, CA 95825. The CCP and FONSI is also be available for viewing and downloading online at http://www.fws.gov/cno/refuges/planning.html.

Printed copies of the CCP and FONSI are also available at the following libraries:

Stanislaus County Library, 1500 I Street, Modesto, California, 95354;

Manteca City Library, 320 Center Road, Manteca, California, 95336; and

Merced County Library, 2100 O Street, Merced, California 95340.

FOR FURTHER INFORMATION CONTACT: Kim Forrest, Project Leader, San Luis National Wildlife Refuge Complex, P.O. Box 2176, 947-C West Pacheco Boulevard, Los Banos, California 93635 or Mark Pelz, Chief, Refuge Planning, CA/NV Refuge Planning Office, 2800 Cottage Way, W-1832, Sacramento, CA 95825, phone (916) 414-6504.

SUPPLEMENTARY INFORMATION:

Background

The Refuge was established in 1987 primarily to protect and manage wintering habitat for Aleutian Canada geese, a federally listed endangered species. Since that time, the Refuge's focus has expanded to include protecting other sensitive species and restoring natural habitats and ecological processes. This Refuge and its management have been important factors in the recovery of the Aleutian Canada goose and its removal in 2001 from the Threatened and Endangered Species List. The Refuge is located just west of Modesto, California.

The Draft CCP and Environmental Assessment (EA) were available for a 30-day public review and comment period, which was announced via several methods including press releases; updates to constituents; and in the Federal Register (71 FR 120, June 22, 2006). The Draft CCP/EA identified and evaluated four alternatives for managing the Refuge for the next 15 years. Alternative A was the no-action alternative which described current Refuge management activities. Alternative B placed greater emphasis on wetland restoration and management and would expand visitor services for all priority public uses, including fishing and hunting. Alternative C focused on restoration and management of riparian habitats and providing non-consumptive wildlife-dependant recreation opportunities. Alternative D, (the selected alternative) includes a balance of wetland and riparian restoration and management and expands opportunities for all priority public uses, including fishing and hunting.

The Service received seven comment letters on the Draft CCP and EA during the review period. The comments received were incorporated into the CCP, when possible, and are responded to in an appendix to the CCP. In the FONSI, Alternative D was selected for implementation and is the basis for the CCP. The FONSI documents the decision of the Service and is based on the information and analysis contained in the EA.

Under the selected alternative, the Service will manage the east unit of the Refuge primarily for Aleutian Canada geese and other migratory birds. In addition, the Service will restore both wetland and riparian habitats in proportions similar to their perceived occurrence before the land was used for agricultural purposes. Under the selected alternative, 1,457 wetland acres and 3,224 acres of riparian habitat will be restored or enhanced. Fishing and hunting will be permitted on the Refuge subject to State and Federal laws. Off-Refuge environmental education opportunities will include school and community presentations. Cultural resources on the Refuge will be assessed and preserved according to regulatory requirements.

The selected alternative best meets the Refuge's purposes, vision and goals; contributes to the Refuge System mission; addresses the significant issues and relevant mandates; and is consistent with principles of sound fish and wildlife management.

Dated: August 7, 2007.
Ken McDermond,
Acting Manager, California/Nevada Operations, Sacramento, California.

[FR Doc. E7-16107 Filed 8-15-07; 8:45 am]

BILLING CODE 4310-55-P